DEPARTMENT OF ENERGY

Federal Energy Regulatory Commission

Combined Notice of Filings #1

Take notice that the Commission received the following electric corporate filings:

Docket Numbers: EC22-78-001.

Applicants: Digihost International Inc., Fortistar North Tonawanda LLC.

Description: Notice of Material Change in Circumstances of Fortistar North Tonawanda LLC.

Filed Date: 12/16/24.

Accession Number: 20241216-5324.

Comment Date: 5 p.m. ET 1/6/25.

Take notice that the Commission received the following exempt wholesale generator filings:

Docket Numbers: EG25-62-000.

Applicants: RE Papago PV LLC.

Description: RE Papago PV LLC submits Notice of Self-Certification of Exempt Wholesale Generator Status.

Filed Date: 12/17/24.

Accession Number: 20241217-5109.

Comment Date: 5 p.m. ET 1/7/25.

Docket Numbers: EG25-63-000.

Applicants: Ratts 1 Solar LLC.

Description: Ratts 1 Solar LLC submits Notice of Self-Certification of Exempt Wholesale Generator Status.

Filed Date: 12/17/24.

Accession Number: 20241217-5169.

Comment Date: 5 p.m. ET 1/7/25.

Docket Numbers: EG25-64-000.

Applicants: Ratts 1 Phase 2 Solar, LLC.

Description: Ratts 1 Phase 2 Solar, LLC submits Notice of Self-Certification of Exempt Wholesale Generator Status.

Filed Date: 12/17/24.

Accession Number: 20241217-5175.

Comment Date: 5 p.m. ET 1/7/25.

Take notice that the Commission received the following electric rate filings:

Docket Numbers: ER13-79-013.

Applicants: Public Service Company of New Mexico.

Description: Compliance filing: Compliance Filing in Response to October 17, 2024, Order on Remand to be effective 12/17/2024.

Filed Date: 12/16/24.

Accession Number: 20241216-5297.

Comment Date: 5 p.m. ET 1/6/25.

Docket Numbers: ER24-2016-001.

Applicants: MATL LLP.

Description: Compliance filing: Second Compliance FIling Order No. 2023 (ER24-2016) to be effective 11/21/2024.

Filed Date: 12/17/24.

Accession Number: 20241217-5098.

Comment Date: 5 p.m. ET 1/7/25.

Docket Numbers: ER25-300-001.

Applicants: ITC Great Plains, LLC, Southwest Power Pool, Inc.

Description: Tariff Amendment: ITC Great Plains, LLC submits tariff filing per 35.17(b): ITC Great Plains, LLC Amendment to Formula Rate Revisions Filing to be effective 1/1/2025.

Filed Date: 12/17/24.

Accession Number: 20241217-5019.

Comment Date: 5 p.m. ET 12/23/24.

Docket Numbers: ER25-728-000.

Applicants: Puget Sound Energy, Inc.

Description: § 205(d) Rate Filing: Twin Falls Hydro Associates LGIA—SA-5122 to be effective 3/9/2025.

Filed Date: 12/16/24.

Accession Number: 20241216-5274.

Comment Date: 5 p.m. ET 1/6/25.

Docket Numbers: ER25-729-000.

Applicants: Jackson Generation, LLC.

Description: Jackson Generation, LLC requests a limited, one-time waiver of the 90-day notice requirement contained in Schedule 2 to the PJM Tariff.

Filed Date: 12/16/24.

Accession Number: 20241216-5322.

Comment Date: 5 p.m. ET 1/6/25.

Docket Numbers: ER25-732-000.

Applicants: PacifiCorp.

Description: § 205(d) Rate Filing: UAMPS Construction Agreement Logan BTM (R.S. No. 792) to be effective 2/16/2025.

Filed Date: 12/17/24.

Accession Number: 20241217-5064.

Comment Date: 5 p.m. ET 1/7/25.

Docket Numbers: ER25-733-000.

Applicants: Northwest Ohio Wind, LLC.

Description: Northwest Ohio Wind, LLC requests a one-time, limited waiver of the 90-day prior notice requirement set forth in Schedule 2 to the PJM Interconnection, L.L.C. Open Access Transmission Tariff.

Filed Date: 12/16/24.

Accession Number: 20241216-5323.

Comment Date: 5 p.m. ET 1/6/25.

Docket Numbers: ER25-734-000.

Applicants: Midcontinent Independent System Operator, Inc.

Description: § 205(d) Rate Filing: 2024-12-17_SA 4412 Entergy Louisiana-Entergy Louisiana GIA (Nelson) to be effective 12/5/2024.

Filed Date: 12/17/24.

Accession Number: 20241217-5114.

Comment Date: 5 p.m. ET 1/7/25.

Docket Numbers: ER25-735-000.

Applicants: American Transmission Systems, Incorporated.

Description: § 205(d) Rate Filing: ATSI submits Construction Agreement, SA No. 6939 to be effective 2/16/2025.

Filed Date: 12/17/24.

Accession Number: 20241217-5116.

Comment Date: 5 p.m. ET 1/7/25.

Docket Numbers: ER25-736-000.

Applicants: UNS Electric, Inc.

Description: § 205(d) Rate Filing: Rate Schedule No. 11 to be effective 12/18/2024.

Filed Date: 12/17/24.

Accession Number: 20241217-5168.

Comment Date: 5 p.m. ET 1/7/25.

Docket Numbers: ER25-737-000.

Applicants: Niagara Mohawk Power Corporation, New York Independent System Operator, Inc.

Description: § 205(d) Rate Filing: New York Independent System Operator, Inc. submits tariff filing per 35.13(a)(2)(iii: NYISO-National Grid Joint 205: Amended SGIA Dolan Solar SA2720 to be effective 12/3/2024.

Filed Date: 12/17/24.

Accession Number: 20241217-5178.

Comment Date: 5 p.m. ET 1/7/25.

Docket Numbers: ER25-738-000.

Applicants: Midcontinent Independent System Operator, Inc.

Description: § 205(d) Rate Filing: 2024-12-17_SA 4414 Entergy Louisiana-Entergy Louisiana GIA (R1039) to be effective 12/10/2024.

Filed Date: 12/17/24.

Accession Number: 20241217-5240.

Comment Date: 5 p.m. ET 1/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 17, 2024.
Debbie-Anne A. Reese,
Secretary.

[FR Doc. 2024-30565 Filed 12-20-24; 8:45 am]

BILLING CODE 6717-01-P